ENVIRONMENTAL PROTECTION AGENCY

[FRL-9917-65-OARM; EPA-HQ-OA-2014-0113]

National Advisory Council for Environmental Policy and Technology

AGENCY: Environmental Protection Agency.

ACTION: Notice of Advisory Committee Teleconference.

SUMMARY: Under the Federal Advisory Committee Act, Public Law 92463, the Environmental Protection Agency (EPA) gives notice of a public teleconference of the National Advisory Council for Environmental Policy and Technology (NACEPT). NACEPT provides advice to the EPA Administrator on a broad range of environmental policy, technology, and management issues. NACEPT members represent academia, industry, non-governmental organizations, and local, state, and tribal governments. The purpose of this committee meeting is for NACEPT to continue developing sustainability strategies to strengthen the Agency's core business principles and practices outlined in the FY2014-2018 EPA Strategic Plan. A copy of the meeting agenda will be posted at http://www2.epa.gov/faca/nacept.

DATES: NACEPT will hold a public teleconference on Monday, November 3, 2014, from 12:00 p.m. to 4:00 p.m. Eastern Standard Time.

ADDRESSES: The meeting will be held at the U.S. EPA, William Jefferson Clinton Federal Building East, 1201 Constitution Ave. NW., Room 1132, Washington, DC 20004.

FOR FURTHER INFORMATION CONTACT: Eugene Green, Acting Designated Federal Officer, green.eugene@epa.gov, (202) 564-2432, U.S. EPA, Office of Federal Advisory Committee Management and Outreach (1601M), 1200 Pennsylvania Avenue NW., Washington, DC 20460.

SUPPLEMENTARY INFORMATION: The meeting is open to the public with limited seating and requests to provide oral and/or written comments to NACEPT should be sent directly to Eugene Green by Monday, October 27, 2014.

In addition, members of the public wishing to participate in-person or via teleconference should follow the same procedure as noted above.

Accessibility/Accommodations: Individuals with disabilities requesting reasonable accommodations should submit requests to Eugene Green at least 10 days in advance of the scheduled meeting.

Dated: September 29, 2014.
Eugene Green,
Acting Designated Federal Officer.

[FR Doc. 2014-24024 Filed 10-7-14; 8:45 am]

BILLING CODE 6560-50-P